DEPARTMENT OF TRANSPORTATION

Federal Aviation Administration

[Docket No. FAA-2001-10478; Notice No. 01-10]

RIN 2120-AH45

Final Guidance for the Use of Binding Arbitration Under the Administrative Dispute Resolution Act of 1996

AGENCY: Federal Aviation Administration (FAA), DOT.

ACTION: Final guidance.

SUMMARY: This document announces the publication of the Final Guidance for the use of binding arbitration for purposes of resolving bid protests and contract disputes relating to procurements and contracts under the FAA Acquisition Management System. The Final Guidance is located on the Internet at http://www.faa.gov/agc/guidnce.htm.

EFFECTIVE DATE: The Guidance becomes effective immediately upon publication in the Federal Register.

FOR FURTHER INFORMATION CONTACT: Marie A. Collins, Dispute resolution Officer, FAA Office of Dispute Resolution for Acquisition, AGC-70, Room 8332, Federal Aviation Administration, 400 7th Street, SW., Washington, DC 20590, telephone number (202) 366-6400.

SUPPLEMENTARY INFORMATION: By Federal Register Notice issued on August 27, 2001, the Office of Dispute Resolution for Acquisition (ODRA) of the FAA, a modal administration of the United States Department of Transportation, notified the public of the issuance for public comment of proposed Guidance for the use of binding arbitration as an alternative dispute resolution (ADR) technique for purposes of resolving bid protests and contract disputes relating to procurements and contracts under the FAA Acquisition Management System. The proposed Guidance, developed pursuant to the Administrative Dispute Resolution Act (ADRA) of 1996, Pub. L. 104-320 (October 19, 1996), 5 U.S.C. 571-583, had been published in full on the Internet. As was stated in the Notice, the FAA had submitted the Guidance to the Attorney General for consultation and had received his concurrence in accordance with Section 575 of the ADRA. The Notice called for public comments to be received by the ODRA on or before September 26, 2001. No comments were received by that date. The final Guidance is currently published in full on the Internet at http://www.faa.gov/agc/guidnce.htm. Other than introductory language that details the foregoing history of publication for public comment, the final Guidance is identical to the proposed Guidance.

Issued in Washington, DC, on October 9, 2001.
Jane F. Garvey,
Administrator.

[FR Doc. 01-25859 Filed 10-12-01; 8:45 am]

BILLING CODE 4910-13-M